DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 26, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Bureau of the Fiscal Service (FS)

Title: Special Form of Assignment for U.S. Registered Definitive Securities.

OMB Control Number: 1530-0058.

Type of Review: Extension without change of a currently approved collection.

Abstract: FS Form 1832 is completed by the owner (or authorized representative) of registered securities to convert the definitive (paper) registered securities to an account in TreasuryDirect®; convert the definitive (paper) registered securities to a book-entry account with a commercial financial institution, or allow matured or called definitive (paper) registered securities to be paid to another party.

Form: FS Form 1832.

Affected Public: Individuals and households.

Estimated Total Annual Burden Hours: 1,600.

Title: Disclaimer and Consent with Respect to United States Savings Bond/Notes.

OMB Control Number: 1530-0059.

Type of Review: Extension without change of a currently approved collection.

Abstract: Used to obtain a disclaimer and consent as the result of an error in registration or otherwise the payment, refund of the purchase price, or reissue as requested by one person would appear to affect the right, title or interest of some other person.

Form: FS Form 1849.

Affected Public: Individuals and households.

Estimated Total Annual Burden Hours: 300.

Authority: 44 U.S.C. 3501 et seq.

Dated: December 21, 2017.
Spencer W. Clark,
Treasury PRA Clearance Officer.

[FR Doc. 2017-27871 Filed 12-26-17; 8:45 am]

BILLING CODE 4810-AS-P